DEPARTMENT OF HEALTH AND HUMAN SERVICES

National Institutes of Health

National Center for Advancing Translational Sciences; Request for Comment on Proposed Methods for Avoiding Duplication, Redundancy and Competition With Industry Activities

SUMMARY: The National Institutes of Health (NIH) National Center for Advancing Translational Sciences (NCATS) invites comments regarding proposed methods it will use to avoid duplication, redundancy and competition with industry activities.

DATES: Comments regarding the proposed methods are due within 30 days of the date of this publication in the Federal Register.

ADDRESSES: Comments regarding the proposed methods should be sent to comment@ncats.nih.gov.

SUPPLEMENTARY INFORMATION: The Public Health Service Act indicates that the purpose of the National Center for Advancing Translational Sciences (NCATS) is to advance translational sciences by coordinating and developing resources that leverage basic research in support of translational science; and by developing partnerships and working cooperatively to foster synergy in ways that do not create duplication, redundancy and competition with industry activities.

Proposed Methods: In order to avoid duplication, redundancy and competition with industry activities, NCATS proposes to use one or more of the following methods that will allow the public, including industry, to be aware of its current activities and to have the opportunity to provide input: (1) Frequent updates to the NCATS Web site (www.ncats.nih.gov), which includes the NCATS Director's message and/or blog, listings of ongoing programs and projects, and notifications of solicitations for funding proposals for which industry may be eligible; (2) open public meetings to gather input on NCATS plans, priorities, and programs to which industry representatives are specifically invited; (3) discussion and gathering input on NCATS plans, priorities, and programs of NCATS activities and concept clearances at the regular meetings of the NCATS Advisory Council and Cures Acceleration Network Review Board, which include members of the biotechnology, pharmaceutical, and venture capital communities; (4) meetings to gather input on NCATS plans, priorities, and programs with industry organizations including, but not limited to, the Pharmaceutical Research and Manufacturers of America (PhRMA), the Biotechnology Industry Organization (BIO), and the National Venture Capital Association (NVCA); (5) regular presentations to and panel discussions with industry representatives at public conferences; (6) demonstration of non-redundancy with industry projects as a selection criterion for relevant NCATS projects; (7) promotion of partnerships through the publication of notices in the Federal Register seeking partners in Collaborative Research and Development Agreements (CRADAs) to facilitate the development and commercialization of technologies; (8) publication of Requests for Information on NCATS plans, priorities, and programs in the Federal Register and NIH Guide; (9) sponsorship of regular workshops to identify priorities and solutions of topics related to translational science; and (10) periodic release of the NCATS e-newsletter, distribution of emails to NCATS stakeholder listservs, and announcements on NCATS Facebook page and through the NCATS Twitter account. In addition, the community will be able to inquire and comment on NCATS activities at any time by sending an email to info@ncats.nih.gov.

FOR FURTHER INFORMATION CONTACT: For further details please contact Stephen Seidel, Acting Director, Office of Policy, National Center for Advancing Translational Sciences, NIH, 6701 Democracy Blvd., Suite 900, Bethesda, MD 20892-4874; 301-435-0866; Email: seidels@mail.nih.gov.

Dated: May 8, 2013.
Christopher P. Austin,
Director, National Center for Advancing Translational Sciences, National Institutes of Health.

[FR Doc. 2013-11526 Filed 5-14-13; 8:45 am]

BILLING CODE 4140-01-P